Title 3—

The President

Memorandum of May 18, 2006

Assignment of Function Regarding Transfer of Items in the War Reserves Stockpile for the Republic of Korea

Memorandum for the Secretary of Defense

By the authority vested in me as President by the Constitution and the laws of the United States of America, including section 301 of title 3, United States Code, I hereby assign to you the functions of the President under section 1 of Public Law 109-159 (119 Stat. 2955).

You are authorized and directed to publish this memorandum in the Federal Register.

B

THE WHITE HOUSE,

Washington, May 18, 2006.

[FR Doc. 06-5613

Filed 6-20-06; 8:46 am]

Billing code 5000-04-M